DEPARTMENT OF AGRICULTURE

Forest Service

North Central Idaho Resource Advisory Committee

AGENCY: Forest Service, USDA.

ACTION: Notice of Virtual meeting.

SUMMARY: The North Central Idaho Resource Advisory Committee (RAC) will hold a virtual meeting. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/nezperceclearwater/workingtogether/advisorycommittees.

DATES: The meeting will begin at 9:00 a.m. each day on:

• Tuesday, June 16, 2020, and

• Wednesday, June 17, 2020.

All RAC meetings are subject to cancellation. For status of the meeting prior to attendance, please contact the person listed under For Further Information Contact.

ADDRESSES: The meeting will be held with virtual attendance only. For virtual meeting information, please contact the person listed under For Further Information Contact.

Written comments may be submitted as described under Supplementary Information. All comments, including names and addresses when provided, are placed in the record and are available for public inspection and copying. The public may inspect comments received at the Nez Perce-Clearwater National Forest, Grangeville Office. Please call ahead at 208-983-7004 to facilitate entry into the building.

FOR FURTHER INFORMATION CONTACT: Lisa Canaday, RAC Coordinator, by phone at 208-983-8917 or via email at lisa.canaday@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Elect a RAC chairperson,

2. Present project proposals, and

3. Discuss, recommend, and approve new Title II projects.

The meeting is open to the public. The agenda will include time for people to make oral statements of three minutes or less. Individuals wishing to make an oral statement should request in writing by Friday, June 12, 2020, to be scheduled on the agenda. Anyone who would like to bring related matters to the attention of the committee may file written statements with the committee staff before or after the meeting. Written comments and requests for time for oral comments must be sent to Lisa Canaday, RAC Coordinator, 104 Airport Road, Grangeville, Idaho 83530; by email to lisa.canaday@usda.gov, or via facsimile to 208-983-4098.

Meeting Accommodations: If you are a person requiring reasonable accommodation, please make requests in advance for sign language interpreting, assistive listening devices, or other reasonable accommodation. For access to the proceedings, please contact the person listed in the section titled For Further Information Contact. All reasonable accommodation requests are managed on a case by case basis.

Dated: May 6, 2020.
Cikena Reid,
USDA Committee Management Officer.

[FR Doc. 2020-10043 Filed 5-11-20; 8:45 am]

BILLING CODE 3411-15-P